DEPARTMENT OF THE INTERIOR

National Park Service

Notice of Inventory Completion: Peabody Museum of Archaeology and Ethnology, Harvard University, Cambridge, MA; Correction

AGENCY: National Park Service, Interior.

ACTION: Notice; correction.

Notice is here given in accordance with the Native American Graves Protection and Repatriation Act (NAGPRA), 25 U.S.C. 3003, of the completion of an inventory of human remains in the possession of the Peabody Museum of Archaeology and Ethnology, Harvard University, Cambridge, MA. The human remains were removed from the Trudeau Site in West Feliciana Parish, LA.

This notice is published as part of the National Park Service's administrative responsibilities under NAGPRA, 25 U.S.C. 3003(d)(3). The determinations in this notice are the sole responsibility of the museum, institution, or Federal agency that has control of the Native American human remains. The National Park Service is not responsible for the determinations in this notice.

This notice corrects the minimum number of individuals reported in a Notice of Inventory Completion published in the Federal Register (66 FR 51464, October 9, 2001) from four to seven individuals. These additional individuals were found during the Peabody Museum's ongoing inventory process since the publication of the original notice.

In the Federal Register, paragraph number 2, page 51464, is corrected by substituting the following paragraph:

In 1972, individuals representing seven individuals were collected from the Trudeau site in West Feliciana Parish, LA, by Jeffrey P. Brain as part of the Lower Mississippi Survey expedition. The Lower Mississippi Survey was a project of Harvard University faculty in 1972. No known individuals were identified. No associated funerary objects are present.

In the Federal Register, paragraph number 4, page 51464, is corrected by substituting the following paragraph:

Officials of the Peabody Museum of Archaeology and Ethnology have determined that, pursuant to 25 U.S.C. 3001(9), the human remains represent the physical remains of seven individuals of Native American ancestry. Officials of the Peabody Museum of Archaeology and Ethnology also have determined that, pursuant to 25 U.S.C. 3001(2), there is a relationship of shared group identity that can reasonably be traced between the Native American human remains and the Tunica-Biloxi Indian Tribe of Louisiana.

Representatives of any other Indian tribe that believes itself to be culturally affiliated with the human remains should contact Patricia Capone, Repatriation Coordinator, Peabody Museum of Archaeology and Ethnology, Harvard University, 11 Divinity Ave., Cambridge, MA 02138, telephone (617) 496-3702, before October 25, 2010. Repatriation of the human remains to the Tunica-Biloxi Indian Tribe of Louisiana may proceed after that date if no additional claimants come forward.

The Peabody Museum of Archaeology and Ethnology is responsible for notifying the Tunica-Biloxi Indian Tribe of Louisiana that this notice has been published.

Dated: September 10, 2010
Sherry Hutt,
Manager, National NAGPRA Program.

[FR Doc. 2010-23906 Filed 9-23-10; 8:45 am]

BILLING CODE 4312-50-S